DEPARTMENT OF JUSTICE

Office of Justice Programs

[OMB Number: 1121-0314]

Agency Information Collection Activities: Reinstatement, With Change, of a Previously Approved Collection for Which Approval Has Expired; Comments Requested

ACTION: 60-Day notice of information collection under review: Firearms Inquiry Statistics (FIST) Program.

The Department of Justice (DOJ), Office of Justice Programs, Bureau of Justice Statistics (BJS), will be submitting the following information collection request to the Office of Management and Budget (OMB) for review and approval in accordance with the Paperwork Reduction Act of 1995. The proposed information collection is published to obtain comments from the public and affected agencies. Comments are encouraged and will be accepted for “sixty days” until October 25, 2010. This process is conducted in accordance with 5 CFR 1320.10.

If you have comments especially on the estimated public burden or associated response time, suggestions, or need a copy of the proposed information collection instrument with instructions or additional information, please contact Allina D. Boutilier, Bureau of Justice Statistics, 810 Seventh Street, NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Reinstatement, with change, of a previously approved collection for which approval has expired.

(2) Title of the Form/Collection: Firearms Inquiry Statistics (FIST) Program.

(3) Agency form number, if any, and the applicable component of the Department of Justice sponsoring the collection: Not applicable. Tally sheets are sent to relevant State and local agencies for reporting purposes. These data collection forms are not assigned an agency form number but are labeled with the appropriate OMB number.

(4) Affected public who will be asked or required to respond, as well as a brief abstract: Primary: State and Local Governments. This information collection is a survey of State and local agencies that conduct background checks on individuals applying to purchase firearms from federally licensed firearm dealers. The information will provide national statistics on the total number of applications and rejections annually, reasons for rejection, and arrest and appeal information.

(5) An estimate of the total number of respondents and the amount of time estimated for an average respondent to respond: It is estimated that 559 respondents will complete a 15-minute form once annually.

(6) An estimate of the total public burden (in hours) associated with the collection: There are an estimated 139.75 total annual burden hours associated with this collection.

If additional information is required contact: Lynn Bryant, Department Clearance Officer, United States Department of Justice, Justice Management Division, Policy and Planning Staff, Two Constitution Square, 145 N Street, NE., Suite 2E-502, Washington, DC 20530.

Dated: August 18, 2010.
Lynn Bryant,
Department Clearance Officer, U.S. Department of Justice.

[FR Doc. 2010-20991 Filed 8-23-10; 8:45 am]

BILLING CODE 4410-18-P